DEPARTMENT OF AGRICULTURE

Forest Service

Garnet Stars & Sands Project; Idaho Panhandle National Forests, Benewah and Latah Counties, ID

AGENCY: Forest Service, USDA.

ACTION: Cancellation of Notice of Intent to prepare an Environmental Impact Statement.

SUMMARY: A Notice of Intent to prepare an Environmental Impact Statement for the Garnet Stars & Sands Project was published in the Federal Register on May 1, 2001 (Volume 66, Number 84) on pages 21731-21732. The proposed action and the purpose and need for the proposed action have changed substantially, so the project is cancelled. A new Notice of Intent to prepare an Environmental Impact Statement for the new project (Emerald Creek Garnet Area) will be published in the Federal Register. A scoping letter was sent to addresses on the mailing list explaining the changes in the project. The responsible official is Ranotta K. McNair, Forest Supervisor, Idaho Panhandle National Forests, 3815 Schreiber Way, Coeur d'Alene, ID 83815.

FOR FURTHER INFORMATION CONTACT: Tracy Gravelle, St. Joe Ranger District, Avery Office, HC Box 1, Avery, ID 83861.

Dated: January 11, 2005.
Ranotta K. McNair,
Forest Supervisor, Idaho Panhandle National Forests.

[FR Doc. 05-1065 Filed 1-19-05; 8:45 am]

BILLING CODE 3410-11-M